INTERNATIONAL TRADE COMMISSION

[Investigation Nos. 701-TA-560 and 731-TA-1320 (Final)]

Carbon and Alloy Steel Cut-to-Length Plate From China; Supplemental Schedule for the Subject Investigations

AGENCY: United States International Trade Commission.

ACTION: Notice.

DATES: Effective Date: February 3, 2017.

FOR FURTHER INFORMATION CONTACT: Carolyn Carlson (202-205-3002), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective September 16, 2016, the Commission established a general schedule for the conduct of the final phase of its investigations on carbon and alloy steel cut-to-length plate.¹ The Department of Commerce's preliminary determinations were published on September 13, 2016 and November 14, 2016.² The Department of Commerce's final determinations were published on January 26, 2017.³ The Commission, therefore, is issuing a supplemental schedule for its investigations on imports of carbon and alloy steel cut-to-length plate from China.

¹ Carbon and Alloy Steel Cut-to-Length Plate From Austria, Belgium, Brazil, China, France, Germany, Italy, Japan, Korea, South Africa, Taiwan, and Turkey; Scheduling of the Final Phase of Countervailing Duty and Antidumping Duty Investigations, 81 FR 70440, October 12, 2016.

² Certain Carbon and Alloy Steel Cut-to-Length Plate From the People's Republic of China: Preliminary Affirmative Countervailing Duty Determination and Alignment of Final Determination With Final Antidumping Duty Determination, 81 FR 62871, September 13, 2016; Certain Carbon and Alloy Steel Cut-To-Length Plate From the People's Republic of China: Preliminary Affirmative Determination of Sales at Less Than Fair Value, 81 FR 79450, November 14, 2016.

³ Certain Carbon and Alloy Steel Cut-to-Length Plate From the People's Republic of China: Final Affirmative Countervailing Duty Determination, 82 FR 8507, January 26, 2017; Certain Carbon and Alloy Steel Cut-To-Length Plate From the People's Republic of China: Final Affirmative Determination of Sales at Less Than Fair Value, 82 FR 8510, January 26, 2017.

The Commission's supplemental schedule is as follows: The deadline for filing supplemental party comments on Commerce's final determinations is February 13, 2017; the staff report in the final phase of these investigations will be placed in the nonpublic record on February 24, 2017; and a public version will be issued thereafter.

Supplemental party comments may address only Commerce's final determinations regarding imports from China. These supplemental final comments may not contain new factual information and may not exceed five (5) pages in length.

For further information concerning these investigations see the Commission's notice cited above and the Commission's Rules of Practice and Procedure, part 201, subparts A and B (19 CFR part 201), and part 207, subparts A and C (19 CFR part 207).

Authority: These investigations are being conducted under authority of title VII of the Tariff Act of 1930; this notice is published pursuant to section 207.21 of the Commission's rules.

By order of the Commission.
Issued: February 6, 2017.
Lisa R. Barton,
Secretary to the Commission.

[FR Doc. 2017-02675 Filed 2-8-17; 8:45 am]

BILLING CODE 7020-02-P